DEPARTMENT OF STATE

[Public Notice 6840]

Privacy Act; Systems of Records; State-65, Speaker/Specialist Program Records

SUMMARY: Notice is hereby given that the Department of State proposes to alter an existing system of records, Speaker/Specialist Program Records, State-65, pursuant to the provisions of the Privacy Act of 1974, as amended (5 U.S.C. 552a) and Office of Management and Budget Circular No. A-130, Appendix I. The Department's report was filed with the Office of Management and Budget on November 25, 2009. It is proposed that the current system will retain the name “Speaker/Specialist Program Records.” It is also proposed the altered system description will include revisions and/or additions to the following sections: Categories of Records in the System, Purpose, Authority for Maintenance of the System, Routine Uses of Records Maintenance in the System, Safeguards and Retrievability as well as other administrative updates.

Any persons interested in commenting on the altered system of records may do so by submitting comments in writing to Margaret P. Grafeld, Director; Office of Information Programs and Services; A/GIS/IPS; Department of State, SA-2; 515 22nd Street, Washington, DC 20522-8001. This system of records will be effective 40 days from the date of publication, unless we receive comments that will result in a contrary determination.

The altered system description, “Speaker/Specialist Program Records, State-65,” will read as set forth below.

Dated: November 24, 2009.
Steven J. Rodriguez,
Deputy Assistant Secretary of Operations, Bureau of Administration, U.S. Department of tate.

STATE-65

SYSTEM NAME:

Speaker/Specialist Program Records.

SECURITY CLASSIFICATION:

Unclassified.

SYSTEM LOCATION:

Department of State, SA-5, C1, 2200 C Street, NW., Washington, DC 20037.

CATEGORIES OF INDIVIDUALS COVERED BY THE SYSTEM:

American experts who have participated or been considered for participation in the Speaker/Specialist Program sponsored by the Bureau of International Information Programs. Speakers/Specialists are recruited for their expertise in addressing foreign audiences in U.S. policies and practices in any of five thematic areas: Economic Security, Political Security, Democracy and Human Rights, Global Issues and Communications, and U.S. Society and Values.

CATEGORIES OF RECORDS IN THE SYSTEM:

These records contain biographic information about the speaker/specialist including names, social security and passport numbers, contact information, education and professional experience, financial information, correspondence between the subject, the Department and overseas posts regarding the subjects participation in the program; travel itineraries and visa documentation; grant authorization numbers and types; copies of the grant documents; cost and fiscal data; payment vouchers; country clearance telegrams; and, when available, program evaluations and speaker reports.

AUTHORITY FOR MAINTENANCE OF THE SYSTEM:

5 U.S.C. 301 (Management of the Department of State); 22 U.S.C. 1431 et seq. (Smith-Mundt United States Information and Educational Exchange Act of 1948, as amended); 22 U.S.C. 2651a (Organization of the Department of State); and 22 U.S.C. 3921 (Management of the Foreign Service).

PURPOSE(S):

The information contained in the Speaker/Specialist Program Records is collected and maintained by the Bureau of International Information Programs in the administration of its responsibility to manage the Department's Speaker/Specialist Program as provided for in the Smith-Mundt Act.

ROUTINE USES OF RECORDS MAINTAINED IN THE SYSTEM, INCLUDING CATEGORIES OF USERS AND PURPOSES OF SUCH USES:

Information in the Speaker/Specialist Program Records is used as follows:

—To generate periodic and ad hoc statistical reports (e.g., the number of speakers addressing a specific issue; or the number of speakers from historically ethnic colleges and universities) in response to requests from Congress, the White House and other U.S. Government entities;

—To service agencies in order to process and prepare the necessary documents for overseas travel; and

—To disclose information to officials of foreign governments and organizations before a participant is sent to that country in order to facilitate participation in programs and events.

The Department of State periodically publishes in the Federal Register its standard routine uses that apply to all its Privacy Act systems of records. These notices appear in the form of a Prefatory Statement. These standard routine uses apply to the Office of the Speaker/Specialist Program Records, State-65.

POLICIES AND PRACTICES FOR STORING, RETRIEVING, ACCESSING, RETAINING AND DISPOSING OF RECORDS IN THE SYSTEM:

STORAGE:

Hard copy; electronic media.

RETRIEVABILITY:

Individual name.

SAFEGUARDS:

All Department of State employees and contractors with authorized access have undergone a thorough background security investigation. All users are given information system security awareness training, including the procedures for handling Sensitive But Unclassified information and personally identifiable information. Annual refresher training is mandatory. Before being granted access to Speaker/Specialist Program Records, a user must first be granted access to Department of State computer systems. Remote access to the Department of State network from non-Department owned systems is only authorized through a Department-approved access program. Remote access to the network is in compliance with the Office of Management and Budget Memorandum M-07-16 security requirements of two factor authentication and time-out functions. Access to the Department and its annexes is controlled by security guards and admission is limited to those individuals possessing a valid identification card or individuals under proper escort. All records containing personal information are maintained in secured filing cabinets or in restricted areas, access to which is limited to authorized personnel. Servers are stored in Department of State secured facilities in cipher locked server rooms. Access to electronic files is password-protected and under the direct supervision of the system manager. The system manager has the capability of printing audit trails of access from the computer media, thereby permitting regular and ad hoc monitoring of computer usage.

RETENTION AND DISPOSAL:

These records will be maintained until they become inactive, at which time they will be destroyed or retired in accordance with published record schedules of the Department of State and as approved by the National Archives and Records Administration. More specific information may be obtained by writing to the Director; Office of Information Programs and Services, Department of State, SA-2, 515 22nd Street, NW., Washington, DC 20522-8001.

SYSTEM MANAGER AND ADDRESS:

Managing Director, Bureau of International Information and Programs, IIP-ECA/IT, SA-5, C1, Department of State, Washington, DC 20522-0581.

NOTIFICATION PROCEDURES:

Individuals who have reason to believe that the Bureau of International Information Programs might have records pertaining to themselves should write to the Director, Office of Information Programs and Services, Department of State, SA-2, 515 22nd Street NW., Washington, DC 20522-8001. The individual must specify that he/she wishes the Speaker/Specialist Program Records to be checked. At a minimum, the individual should include: Name; date and place of birth; current mailing address and zip code; signature; a brief description of the circumstances that caused the creation of the record; and the approximate dates which give the individual cause to believe that the Bureau of International Information Programs has records pertaining to him/her.

RECORD ACCESS AND AMENDMENT PROCEDURES:

Individuals who wish to gain access to or amend records pertaining to themselves should write to the Director, Office of Information Programs and Services (address above).

RECORD SOURCE CATEGORIES:

These records contain information obtained primarily from the individual who is the subject of these records.

SYSTEMS EXEMPTED FROM CERTAIN PROVISIONS OF THE PRIVACY ACT:

None.

[FR Doc. E9-29451 Filed 12-9-09; 8:45 am]

BILLING CODE 4710-24-P